DEPARTMENT OF AGRICULTURE

National Institute of Food and Agriculture

Notice of Intent To Revise and Extend a Currently Approved Information Collection

AGENCY: National Institute of Food and Agriculture, USDA.

ACTION: Notice and request for comments.

SUMMARY: In accordance with the Paperwork Reduction Act of 1995 and Office of Management and Budget (OMB) regulations (5 CFR part 1320) which implement the Paperwork Reduction Act of 1995 (44 U.S.C. Chapter 35), this notice announces the intention of the National Institute of Food and Agriculture (NIFA) to request approval to revise and extend a currently approved information collection for the 4-H Youth Enrollment Report.

DATES: Written comments on this notice must be received by August 12, 2013 to be assured of consideration. Comments received after this date will be considered to the extent practicable.

ADDRESSES: Written comments concerning this notice and requests for copies of the information collection may be submitted by any of the following methods to Jason Hitchcock, Director, Information Policy, Planning and Training; Mail: NIFA/USDA, Mail Stop 2216, 1400 Independence Avenue SW., Washington, DC 20250-2216; Hand Delivery/Courier: 800 9th Street SW., Waterfront Centre, Room 4217, Washington, DC 20024; or Email: jhitchcock@nifa.usda.gov.

FOR FURTHER INFORMATION CONTACT: Jason Hitchcock, Director of Information Policy, Planning, and Training; Information Systems and Technology Management; NIFA/USDA; Email: jhitchcock@nifa.usda.gov.

SUPPLEMENTARY INFORMATION: Title: 4-H Youth Enrollment Report .

OMB Number: 0524-0045.

Expiration Date of Current Approval: August 31, 2013.

Type of Request: To revise and extend a currently approved information collection for a period of three years.

Abstract: The mission of 4-H National Headquarters, National Institute of Food and Agriculture (NIFA), United States Department of Agriculture (USDA), is to advance scientific knowledge for agriculture, the environment, human and animal health and well-being, and communities by creating opportunities for youth. 4-H is a complex national organization, led by 4-H National Headquarters, Division of Youth & 4-H, NIFA, USDA, with hundreds of educational curricula, activities, and events for youth ages 5 to 19. Programs originate at 109 Land-Grant Institutions, and local programs are conducted and managed by some 3,000 professional Extension staff in 3,150 counties, with nearly 6 million youth enrolled each year. Over 500,000 volunteer leaders work directly with the 4-H youth.

The 1914 Smith-Lever Act created the Cooperative Extension System (CES) of the Land-Grant Institutions and their Federal partner, the Extension Service, now NIFA, USDA. 4-H was already well-established and became the first operating part of the new extension work. The Smith-Lever Act stipulated that “It shall be the duty of said colleges, annually, on or about the first day of January, to make to the Governor of the State in which it is located a full and detailed report of its operations in extension work as defined in this Act . . . a copy of which report shall be sent to the Secretary of Agriculture.” As a result of this requirement, the state 4-H office submits an electronic aggregated summary of their 4-H enrollment.

Information collected in the 4-H Youth Enrollment Report by the state 4-H offices includes the youth enrollment totals, by delivery mode, by type of 4-H activity, by school grade, by gender, by place of residence, by race and ethnicity as well as youth and adult volunteer totals. The NIFA information collection is being revised to include the youth and adult volunteer totals by gender, as well as race and ethnicity.

Need for the Information: The Annual 4-H Enrollment Report is the principal means by which NIFA tracks 4-H member and volunteer enrollments, as well as identifies trends that can indicate emerging needs, potential problems, and opportunities.

Information obtained from this report, as requested by the Congress or the Administration, is used to estimate rural versus urban outreach, enrollment by race, youth participation in leadership, community service, etc. In addition, it is used to estimate market share, percentage of the youth of each state by age and place of residence, and those who are enrolled in the 4-H youth development program. The annual 4-H Youth Enrollment Report also allows oversight of all reasonable efforts by staff and volunteers to reach underserved and minority groups. New information collected will allow NIFA to address civil rights related requests. Information also is available at http://www.4-h.org/resource-library/access-4-h-online-enrollment-management-system/.

Estimate of Burden: The numbers of respondents increase because individual institutions will have the option to submit an institution report, rather than aggregating data from multiple institutions into a single state report. The burden estimates expect to increase by no more than 1 minute to generate the data and fill in the cells on the spreadsheet. The increase is minimal because the new information to be reported is already made available to the institution so they need only relay the information to NIFA. The estimates are:

• Number of Respondents: 109.

• Number of Responses per Respondent: 1.

• Time per Response: 1 hour and 1 minute.

• Total Annual Burden on Respondents: 110 hours and 49 minutes.

Comments: Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology.

All responses to this notice will be summarized and included in the request to OMB for approval. All comments will become a matter of public record.

Done at Washington, DC, this 31st day of May 2013.
Catherine E. Woteki,
Under Secretary, Research, Education, and Economics.

[FR Doc. 2013-13569 Filed 6-6-13; 8:45 am]

BILLING CODE 3410-22-P